DEPARTMENT OF HEALTH AND HUMAN SERVICES

National Institutes of Health

Government-Owned Inventions; Availability for Licensing

AGENCY: National Institutes of Health, Public Health Service, HHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Pyrimidine Phosphorylase as a Target for Imaging and Therapy

RW Klecker and JM Collins (FDA)

DHHS Reference No. E-156-99/0 filed 19 Jan 2001

Licensing Contact: Richard Rodriguez; 301/496-7056 ext. 287; e-mail: rodrigur@od.nih.gov

The present invention describes methods to diagnose and monitor the treatment of tumors with high expression of thymidine phosphorylase (TP) . Overexpression of TP has been shown to correlate with angiogenesis, and this fact can be used, via TP's enzyme function, to preferentially label angiogenic cells through the introduction of relevant precursors. These precursors consist of labeled thymine analogues which are converted by TP into retained cell-components. This can allow for the non-invasive imaging of tumors with high angiogenic activity. The technique can also be used to kill tumor cells by providing the analogues in higher concentrations or with therapeutic isotopes so as to be toxic to cells with high TP levels.

3-D Video Image-Based Microscopic Robotic Targeting

Jeffrey C. Smith (NINDS), James W. Nash (EM)

DHHS Reference No. E-162-00/0 filed 22 Dec 2000

Licensing Contact: Dale Berkley; 301/496-7735 ext. 223; e-mail: berkleyd@od.nih.gov

The invention is a robotic software and hardware system that allows a microscopic object such as a living biological cell to be targeted in 3-D optical space for micromanipulation or probing. The software permits the selection of an object for targeting by a point and click operation with a computer mouse, and performs the transforms between video pixel space, optical space and micro-manipulator mechanical coordinate space to translate the point and click operation into the precision targeting movements of the micro-positioner. The object is viewed in real time through a microscope system via a video output camera and displayed on a computer terminal. Applications include precision positioning of microelectrodes for electrophysiological recording from living cells, micro-injection and micro-manipulation of cells and micro-delivery of pharmacological agents to cells for drug testing and diagnostics. The invention may also find application in microelectronics fabrication.

Dated: March 14, 2001.
Jack Spiegel,
Director, Division of Technology Development and Transfer, Office of Technology Transfer, National Institutes of Health.

[FR Doc. 01-7227 Filed 3-22-01; 8:45 am]

BILLING CODE 4140-01-P